DEPARTMENT OF ENERGY

Federal Energy Regulatory Commission

Combined Notice of Filings #1

Take notice that the Commission received the following electric corporate filings:

Docket Numbers: EC18-59-000.

Applicants: Ormat Technologies, Inc., U.S. Geothermal Inc.

Description: Application For Authorization Pursuant to Section 203 of the Federal Power Act, et al. of Ormat Technologies, Inc., et al.

Filed Date: 2/20/18.

Accession Number: 20180220-5333.

Comments Due: 5 p.m. ET 3/13/18.

Take notice that the Commission received the following electric rate filings:

Docket Numbers: ER18-893-000.

Applicants: PJM Interconnection, L.L.C.

Description: § 205(d) Rate Filing: Revisions to the OATT to clean-up Part IV & Part VI re: Interconnection Process to be effective 4/23/2018.

Filed Date: 2/21/18.

Accession Number: 20180221-5119.

Comments Due: 5 p.m. ET 3/14/18.

Docket Numbers: ER18-894-000.

Applicants: Southern California Edison Company.

Description: Tariff Cancellation: Notice of Cancellation LGIA Oro Verde Solar Project SA No. 150 to be effective 4/24/2018.

Filed Date: 2/22/18.

Accession Number: 20180222-5019.

Comments Due: 5 p.m. ET 3/15/18.

Docket Numbers: ER18-895-000.

Applicants: Southwest Power Pool, Inc.

Description: § 205(d) Rate Filing: 1628R11 Western Farmers Electric Cooperative NITSA NOA to be effective 2/1/2018.

Filed Date: 2/22/18.

Accession Number: 20180222-5021.

Comments Due: 5 p.m. ET 3/15/18.

Take notice that the Commission received the following foreign utility company status filings:

Docket Numbers: FC18-1-000.

Applicants: Parry Energy Storage, LP.

Description: Notification of Self-Certification of Foreign Utility Company Status of Parry Energy Storage, LP.

Filed Date: 2/21/18.

Accession Number: 20180221-5138.

Comments Due: 5 p.m. ET 3/14/18.

Docket Numbers: FC18-2-000.

Applicants: Elmira Energy Storage, LP.

Description: Notification Self-Certification of Foreign Utility Company Status of Elmira Energy Storage, LP.

Filed Date: 2/21/18.

Accession Number: 20180221-5139.

Comments Due: 5 p.m. ET 3/14/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 22, 2018.
Nathaniel J. Davis, Sr.,
Deputy Secretary.

[FR Doc. 2018-04139 Filed 2-28-18; 8:45 am]

BILLING CODE 6717-01-P